DEPARTMENT OF DEFENSE

Office of the Secretary

[Transmittal No. 17-03]

36(b)(1) Arms Sales Notification

AGENCY: Defense Security Cooperation Agency, Department of Defense.

ACTION: Notice.

SUMMARY: The Department of Defense is publishing the unclassified text of a section 36(b)(1) arms sales notification. This is published to fulfill the requirements of section 155 of Public Law 104-164 dated July 21, 1996.

FOR FURTHER INFORMATION CONTACT: Pamela Young, (703) 697-9107 or Kathy Valadez, (703) 697-9217; DSCA/DSA-RAN.

The following is a copy of a letter to the Speaker of the House of Representatives, Transmittal 17-03 with attached Policy Justification.

Dated: April 17, 2017.
Aaron Siegel,
Alternate OSD Federal Register Liaison Officer, Department of Defense.

BILLING CODE 5001-06-P

BILLING CODE 5001-06-C

Transmittal No. 17-03

Notice of Proposed Issuance of Letter of Offer Pursuant to Section 36(b)(1) of the Arms Export Control Act, as amended

(i) Prospective Purchaser: The Government of Iraq

(ii) Total Estimated Value:

Major Defense Equipment * | $0 billion
Other | $1.06 billion
TOTAL | $1.06 billion

(iii) Description and Quantity or Quantities of Articles or Services under Consideration for Purchase:

Major Defense Equipment (MDE): None

Non-MDE:

Pilot training; maintenance training; and contractor logistical services support for C-172, C-208, and T-6 aircraft for up to five (5) years to include contractor aircraft modification; repair and spare parts; publications; aircraft ferry; and miscellaneous parts, along with training base operation support, base life support, security, construction, and other related elements of program support.

(iv) Military Department: Air Force (X7-D-NAA)

(v) Prior Related Cases, if any: N/A

(vi) Sales Commission, Fee, etc., Paid, Offered, or Agreed to be Paid: None

(vii) Sensitivity of Technology Contained in the Defense Article or Defense Services Proposed to be Sold: None

(viii) Date Report Delivered to Congress: April 11, 2017

* as defined in Section 47(6) of the Arms Export Control Act.

POLICY JUSTIFICATION

Republic of Iraq—Pilot and Maintenance Training Contractor Logistical Support (CLS) for Trainer Aircraft, and Base Support

The Government of Iraq has requested a possible sale of pilot training; maintenance training; and contractor logistical services support for C-172, C-208, and T-6 aircraft for up to five (5) years to include contractor aircraft modification; repair and spare parts; publications; aircraft ferry; and miscellaneous parts, along with training base operation support, base life support, security, construction, and other related elements of program support. The estimated total program value is $1.06 billion.

The proposed sale will contribute to the foreign policy and national security of the United States by helping to provide for a stable, sovereign, and democratic Iraq, capable of combating terrorism and protecting its people and sovereignty. Iraq currently owns twelve (12) C-172, five (5) C-208, and fifteen (15) T-6 training aircraft. The training pipeline will allow the Iraqi Air Force to tailor pilot training for several U.S.-origin operational aircraft. The C-172s and T-6s are Iraq's training platforms for their mobility and fighter attack fleets. The C-208s are Iraq's platform of choice for training its Intelligence, Surveillance, and Reconnaissance (ISR) pilots.

The proposed sale of training and support services will improve the Iraq's ability to train its pilots and maintenance technicians. By training its own pilots and maintenance technicians in-country, Iraq will decrease its overseas training requirements, significantly reduce its training costs, and will enhance its ability to take over the sustainment of its aircraft. Iraq will have no difficulty absorbing this support. In addition to its primary mission—pilot and maintenance training for Iraqi Air Force personnel—this proposed sale includes Contractor Logistical Support costs for the trainer aircraft, as well as possible future construction and base operation support costs.

The proposed sale of this training and support will not alter the basic military balance in the region.

The principal contractor is Spartan College, Tulsa, OK. At this time, there are no known offset agreements proposed in connection with this potential sale.

Implementation of this proposed sale will require the assignment of approximately four U.S. Government representatives and 50-55 contractor representatives to Iraq.

There will be no adverse impact on U.S. defense readiness as a result of this proposed sale. All training and support listed on this transmittal are authorized for release and export to the Government of Iraq.

[FR Doc. 2017-08004 Filed 4-19-17; 8:45 am]

BILLING CODE 5001-06-P